DEPARTMENT OF HOUSING AND URBAN DEVELOPMENT

[Docket No. FR-5415-C-18]

Notice of Availability: Notice of Funding Availability (NOFA) for HUD's Fiscal Year (FY) 2010 Healthy Homes Production; Technical Correction

AGENCY: Office of the Chief of the Human Capital Officer, HUD.

ACTION: Notice.

SUMMARY: HUD announces the availability on its Web site of a technical correction that corrects the form that is to be used in responding to a rating factor in the notice of funding availability for the FY2010 Healthy Homes Production Grant Program. The technical correction, which provides information regarding the application process, funding criteria and eligibility requirements, can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for the Healthy Homes Production Grant Program is 14.913. Applications must be submitted electronically through Grants.gov.

FOR FURTHER INFORMATION CONTACT: For information concerning the FY2010 Healthy Homes Production Grant Program you may contact Michelle M. Miller, Director, Programs Division, Office of Healthy Homes and Lead Hazard Control at (202) 402-5769 (this is not a toll-free number) or by e-mail at Michelle.M.Miller@HUD.gov. Persons with speech or hearing impairments may access this telephone number via TTY by calling the toll-free Federal Relay Service during working hours at 800-877-8339.

Dated: October 8, 2010.
Barbara S. Dorf,
Director, Departmental Grants Management and Oversight, Office of the Chief of the Human Capital Officer.

[FR Doc. 2010-25909 Filed 10-13-10; 8:45 am]

BILLING CODE 4210-67-P